DEPARTMENT OF STATE

[Public Notice 6635]

Announcement of a Meeting of the International Telecommunication Advisory Committee

Summary: This notice announces a meeting of the International Telecommunication Advisory Committee (ITAC) to prepare for the International Telecommunication Union (ITU) Regional Preparatory Meeting for the World Telecommunication Development Conference.

The ITAC will meet to begin preparation of advice for the U.S. government for the ITU Regional Preparatory Meeting for the World Telecommunication Development Conference, which will be held from August 13-25, 2009 in Lima, Peru. There will also be reports on recent developments in the ITU, OECD, and CITEL.

The ITAC will meet on July 7,2009 at 1120 20th Street, NW., 10th floor, Washington, DC 20036. This meeting is open to the public as seating capacity allows. The public will have an opportunity to provide comments at this meeting. Those desiring further information on these meeting may contact the Secretariat at jillsonad@state.gov or at 202-647-7847.

Dated: June 15, 2009.
Cecily C. Holiday,
International Communications & Information Policy, Department of State.

[FR Doc. E9-14611 Filed 6-19-09; 8:45 am]

BILLING CODE 4710-07-P